FEDERAL RETIREMENT THRIFT INVESTMENT BOARD

Sunshine Act; Notice of Meeting

TIME AND DATE: 11 a.m. (Eastern Time), December 19, 2011.

PLACE: 4th Floor Conference Room, 1250 H Street NW., Washington, DC 20005.

STATUS: Parts will be open to the public and parts will be closed to the public .

MATTERS TO BE CONSIDERED:

Parts Open to the Public

1. Approval of the minutes of the November 30, 2011 Board Member Meeting.

2. Thrift Savings Plan Activity Report by the Executive Director:

a. Monthly Participant Activity Report.

b. Monthly Investment Performance Review.

c. Legislative Report.

3. 2012 Board Meeting Calendar.

Parts Closed to the Public

4. Procurement.

CONTACT PERSON FOR MORE INFORMATION: Thomas J. Trabucco, Director, Office of External Affairs, (202) 942-1640.

Dated: December 13, 2011.
Thomas K. Emswiler,
Secretary, Federal Retirement Thrift Investment Board.

[FR Doc. 2011-32236 Filed 12-13-11; 11:15 am]

BILLING CODE 6760-01-P